DEPARTMENT OF ENERGY

Federal Energy Regulatory Commission

[Project No. 9985-039]

Rivers Electric, LLC; Notice of Revised Procedural Schedule

Take notice that the schedule for processing the Mill Pond Hydroelectric Project No. 9985 final license application has been updated. Subsequent revisions to the schedule may be made as appropriate.

Milestone | Target date
Issue Acceptance Letter | April 2026.
Issue Scoping Notice for comments | May 2026.
Issue Notice of Ready for Environmental Analysis | July 2026.

(Authority: 18 CFR 2.1)

Dated: January 6, 2026.
Carlos D. Clay,
Deputy Secretary.

[FR Doc. 2026-00265 Filed 1-8-26; 8:45 am]

BILLING CODE 6717-01-P